ENVIRONMENTAL PROTECTION AGENCY

[EPA-HQ-OPP-2004-0262; FRL-8078-9]

Federal Plan for Certification of Restricted Use Pesticide Applicators in Navajo Indian Country; Notice of Implementation; and Announcement of Availability of Form to Request Pesticide Applicator Certification in Navajo Indian Country

AGENCY: Environmental Protection Agency (EPA).

ACTION: Notice.

SUMMARY: In the Federal Register of February 3, 2006, EPA issued the notice of intent to implement a federal program to certify applicators of restricted use pesticides (RUPs) in Navajo Indian Country. The program will be implemented by EPA Region 9, located in San Francisco, CA. In the notice, EPA solicited comments from the public on EPA's intent to implement a federal certification plan in Navajo Indian Country and on its proposed Federal Plan for Certification of Restricted Use Pesticides in Navajo Indian Country (federal plan). No comments were received and EPA hereby implements the federal plan. Applicators who currently purchase and/or apply RUPs in Navajo Indian Country will have until October 11, 2007 to become certified by EPA. After that date, applicators of RUPs must hold the appropriate EPA certification to purchase and/or apply in Navajo Indian Country. Failure to hold the appropriate certification after October 11, 2007 may result in federal enforcement action in accordance with section 12(a)(2)(F) of FIFRA. This notice also serves to announce the form (EPA Form 8500-17-N) EPA will use for pesticide applicators seeking certification in Navajo Indian Country. Pesticide applicators seeking certification to use RUPs in Navajo Indian Country must complete this form and submit it to EPA Region 9 at the location listed under ADDRESSES.

ADDRESSES: Persons should submit EPA Form 8500-17-N to: Pesticide Applicator Certification Program, Environmental Protection Agency, Region 9, 75 Hawthorne St., (CED-5), San Francisco, CA 94105-3901.

EPA Form 8500-17-N is available from the sources identified under Unit I. It may also be printed from EPA's website at http://www.epa.gov/oppfead1/safety/applicators/applicators.htm.

FOR FURTHER INFORMATION CONTACT: Fabiola Estrada, Environmental Protection Agency, Region 9, 75 Hawthorne St., (CED-5), San Francisco, CA 94105-3901; telephone number: (415) 972-3493; e-mail address: Estrada.fabiola@epa.gov.

SUPPLEMENTARY INFORMATION:

I. General Information

The final federal plan, related documents, and the application form (EPA Form 8500-17-N) are available:

1. By mail: Fabiola Estrada, Environmental Protection Agency, Region 9, 75 Hawthorne St., (CED-5), San Francisco, CA 94105-3901; telephone number: (415) 947-4212; e-mail address: Estrada.fabiola@epa.gov.

2. In person: Copies of these documents may be examined at the following locations from 9 a.m. to noon and 1 p.m. to 4 p.m., Monday through Thursday, excluding legal holidays.

i. United States Environmental Protection Agency, Region 9 Library, 75 Hawthorne St., (CED-5), San Francisco, CA 94105-3901; telephone number: (415) 947-4406; e-mail address: library-region9@epa.gov.

ii. Navajo Nation Environmental Protection Agency, Pesticide Program, Window Rock Blvd., Building # F004-103 (ATD), Window Rock, AZ 86515. Contact: Glenna Lee, telephone number: (928) 871-7815, e-mail: glennalee@yahoo.com.

II. Does this Action Apply to Me?

This notice applies to individuals and businesses who are seeking certification to apply RUPs as defined by EPA in Navajo Indian Country. This action may, however, be of interest to those involved in agriculture and anyone involved with the distribution and application of pesticides. Since other entities may also be interested, the Agency has not attempted to describe all the specific entities that may be affected by this action. If you have any questions regarding the applicability of this action to a particular entity, consult the person listed under FOR FURTHER INFORMATION CONTACT.

III. What Action is the Agency Taking?

EPA is implementing the Federal Plan for Certification of Restricted Use Pesticide Applicators in Navajo Indian Country. There were no public comments submitted regarding the Federal Register notice of February 3, 2006 (70 FR 5838) (FRL-7682-4).

List of Subjects

Environmental protection, Administrative practice and procedure, Agricultural commodities, Certification, Pesticides and pests.

Dated: June 4, 2007.
James B. Gulliford,
Assistant Administrator, Office of Prevention, Pesticides, and Toxic Substances.

[FR Doc. E7-11322 Filed 6-12-07; 8:45 am]

BILLING CODE 6560-50-S